COMMITTEE FOR PURCHASE FROM PEOPLE WHO ARE BLIND OR SEVERELY DISABLED

Procurement List Proposed Additions

AGENCY: Committee for Purchase From People Who Are Blind or Severely Disabled.

ACTION: Proposed Additions to the Procurement List.

SUMMARY: The Committee is proposing to add services to the Procurement List that will be provided by nonprofit agencies employing persons who are blind or have other severe disabilities.

Comments Must be Received on Or Before: 12/31/2012.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to provide the services listed below from nonprofit agencies employing persons who are blind or have other severe disabilities.

The following services are proposed for addition to the Procurement List for production by the nonprofit agencies listed:

Services

Service Type/Location: E911 Dispatch Service, Directorate of Emergency Services (DES) Emergency Call Center, & Military Police Station, 6940 Marchant Street, Building 216, Fort Benning, GA.

NPA: Bobby Dodd Institute, Inc., Atlanta, GA

Contracting Activity: DEPT OF THE ARMY, W6QM MICC-FT BENNING, FT BENNING, GA.

Service Type/Locations: Hospital Housekeeping Service; McDonald Army Health Center, Fort Eustis, VA; Health/Dental Clinic, Fort Story, VA; Veterinary Clinic, Fort Story, VA.

NPA: Enterprise Professional Services, Inc., Austin, TX.

Contracting Activity: W40M USA MEDCOM Health Care Acquisition Agency, Center for Health Care Contracting, Fort Sam Houston, TX.

Barry S. Lineback,
Director, Business Operations.

[FR Doc. 2012-28979 Filed 11-29-12; 8:45 am]

BILLING CODE 6353-01-P